DEPARTMENT OF COMMERCE

Foreign-Trade Zones Board

[Docket 9-2001]

Proposed Foreign-Trade Zone—Butte County, California Application and Public Hearing

An application has been submitted to the Foreign-Trade Zones (FTZ) Board (the Board) by the Oroville Economic Development Corporation (a non-profit corporation), to establish a general-purpose foreign-trade zone at sites in southern Butte County, California, which appears to be within 90 minutes driving time from the San Francisco/Oakland/Sacramento, California, Customs port of entry limits. The application was submitted pursuant to the provisions of the FTZ Act, as amended (19 U.S.C. 81a-81u), and the regulations of the Board (15 CFR part 400). It was formally filed on February 6, 2001. The applicant is authorized to make the proposal under section 6302 of the California Code.

The proposed zone would be the sixth general-purpose zone in the San Francisco/Oakland/Sacramento, California, Customs port of entry area. The existing zones are FTZ 3 in San Francisco (Grantee: San Francisco Port Commission, Board Order 16, 13 FR 1459, 3/19/48); FTZ 18 in San Jose (Grantee: City of San Jose, California, Board Order 103, 39 FR 42031, 12/4/74); FTZ 56 in Oakland (Grantee: City of Oakland, California, Board Order 155, 45 FR 27802, 4/24/80); FTZ 143 in the W. Sacramento area (site also in Chico) Grantee: Sacramento-Yolo Port District, Board Order 360, 52 FR 30698, 8/17/87); and, FTZ 231 in the Stockton (San Joaquin County) area (Grantee: Stockton Port District, Board Order 967, 63 FR 23719, 4/30/98).

The proposed new zone would consist of 4 sites in the southern Butte County area: Site 1 (1,834 acres)—central Oroville industrial area located in Oroville on Highway 70; Site 2 (812 acres)—Oroville Municipal Airport complex, west of Highway 70 along Highway 162, Oroville; Site 3 (155 acres)—Gridley industrial area west of Highway 99 along the Union Pacific Railroad right of way with Liberty Road, Gridley; and, Site 4 (9 acres)—east of Highway 99, north of Standish Lane, Gridley. Sites 1 and 2 in Oroville are within a California State Recycling Market Development Zone and a California State Enterprise Zone.

The application indicates a need for foreign-trade zone services in the southern Butte County area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on March 15, 2001, 9 a.m., at the City Council Chambers, 1735 Montgomery Street, Oroville, California 95965,

Public comment on the application is invited from interested parties. Submissions (original and 3 copies) shall be addressed to the Board's Executive Secretary at the address below. The closing period for their receipt is April 17, 2001. Rebuttal comments in response to material submitted during the foregoing period may be submitted during the subsequent 15-day period (to May 2, 2001).

A copy of the application and accompanying exhibits will be available during this time for public inspection at the following locations:

Office of the Deputy City Clerk, Oroville City Hall, 1735 Montgomery Street, Oroville, CA 95965

Office of the Executive Secretary, Foreign-Trade Zones Board, Room 4008, U.S. Department of Commerce, 14th and Pennsylvania Avenue, NW, Washington, DC 20230

Dated: February 9, 2001.
Dennis Puccinelli,
Executive Secretary.

[FR Doc. 01-4021 Filed 2-15-01; 8:45 am]

BILLING CODE 3510-DS-P